DEPARTMENT OF THE INTERIOR

National Park Service

[NPS-WASO-NRNHL-DTS#-38944; PPWOCRADI0, PCU00RP14.R50000]

National Register of Historic Places; Notification of Pending Nominations and Related Actions

AGENCY: National Park Service, Interior.

ACTION: Notice.

SUMMARY: The National Park Service is soliciting electronic comments on the significance of properties nominated before October 12, 2024, for listing or related actions in the National Register of Historic Places.

DATES: Comments should be submitted electronically by November 5, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 12, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Pike County

Troy Masonic Temple, 200 N Three Notch Street, Troy, SG100011023

FLORIDA

Alachua County

Lakeshore Towers, 2306 Southwest 13th Street, Gainesville, SG100011031

Liberty County

Torreya State Park (Boundary Increase), Address Restricted, Bristol vicinity, BC100011036

INDIANA

Allen County

Fort Wayne Performing Arts Theatre, 303 East Main Street, Fort Wayne, SG100011042

Carroll County

Delphi Residential Historic District, Roughly bounded by the Norfolk & Southern Railroad on the north and west, Front Street on the south, and Bowen Street (or a continuation thereof) on the east. Delphi, SG100011037

Dubois County

Ferdinand Historic District, Roughly bounded by 1st Street on the south, Missouri Street on the west, 15th Street on the north, and Michigan Street on the east. Main Street includes extensions to the north and south. Ferdinand, SG100011043

Jefferson County

Hanover College Historic District, Roughly bounded by Prospect Street, College Avenue, and Ball Drive, Hanover, SG100011040

Johnson County

Franklin College Historic District, Roughly bounded by East Monroe Street on the north, South Forsythe Street on the east, Grizzly Drive and Park Avenue on the south, and Branigin Boulevard on the west. Franklin, SG100011041

Steuben County

Pryor's Country Place, 1540 West Fox Lake Road, Angola, SG100011038

Tippecanoe County

David and Harriet Hopwood House, 602 N Fifth Street, Lafayette, SG100011039

KANSAS

Douglas County

Malin, James and Pearl House, (Lawrence, Kansas MPS), 1541 University Drive, Lawrence, MP100011034

MASSACHUSETTS

Essex County

David S. Lynch Memorial Park, 55 Ober Street, Beverly, SG100011047

MONTANA

Fergus County

Manley's General Store, 42 Garneill Road, Garneill, SG100011024

NEW JERSEY

Mercer County

The Old School Baptist Church and Cemetery of Hopewell, 46 West Broad Street, Hopewell Borough, SG100011029

PENNSYLVANIA

Carbon County

Bowmanstown School, (Educational Resources of Pennsylvania MPS), 490 Ore Street, Bowmanstown, MP100011046

Dauphin County

Craig Family Cemetery, (African American Churches and Cemeteries in Pennsylvania, c. 1644-c. 1970 MPS), 401 Fishing Creek Valley Road, Harrisburg, MP100011045

UTAH

Salt Lake County

Symphony Hall, 123 W South Temple, Salt Lake City, SG100011033

Utah County

Thurber School, 40 S Main St., Spanish Fork, SG100011044

Additional documentation has been received for the following resource(s):

FLORIDA

Hillsborough County

Circulo Cubano de Tampa (Additional Documentation), 10th Ave. and 14th St., Tampa, AD72000320

St. Johns County

Abbott Tract Historic District (Additional Documentation), Roughly bounded by Matanza's Bay, Pine, San Marco, and Shenandoah Aves., St. Augustine, AD83001438

MASSACHUSETTS

Worcester County

Washburn Square-Leicester Common Historic District (Additional Documentation), Main St., Washburn Sq., 3 Paxton St., Leicester, AD06000062

OREGON

Washington County

Sweek, John, House (Additional Documentation), 18815 SW Boones Ferry Rd., Tualatin, AD74001724

TENNESSEE

Bedford County

Cooper, Gov. Prentice, House (Additional Documentation), 413 E Lane St., Shelbyville, AD75001729

Dickson County

Promise Land School (Additional Documentation), 707 Promise Land Road, Promise, AD07000159

Fayette County

Crawford General Store (Additional Documentation), 15360 TN-193, Williston, AD75001752

Washington County

Sulphur Springs Methodist Campground (Additional Documentation), 101 Bayless Road, Jonesborough vicinity, AD75001796

Williamson County

Rainey House (Additional Documentation), 244 1st Ave., Franklin, AD70000621

(Authority: 36 CFR 60.13)

Sherry A. Frear,
Chief, National Register of Historic Places/National Historic Landmarks Program.

[FR Doc. 2024-24258 Filed 10-18-24; 8:45 am]

BILLING CODE 4312-52-P